DEPARTMENT OF COMMERCE

National Oceanic and Atmospheric Administration

[I.D. 041205D]

Endangered and Threatened Species; Recovery Plans; Notice of Availability of a Draft Interim Regional Recovery Plan

AGENCY: National Marine Fisheries Service (NMFS), National Oceanic and Atmospheric Administration (NOAA), Commerce.

ACTION: Notice of Availability; request for comments.

SUMMARY: The National Marine Fisheries Service (NMFS) announces the availability for public review of the Draft Interim Regional Recovery Plan (Plan) for portions of three Evolutionarily Significant Units (ESUs) of salmon and steelhead Lower Columbia River Chinook Salmon (Oncorhynchus tshawytscha), Columbia River Chum Salmon (Oncorhynchus keta), and Lower Columbia River Steelhead (Oncorhynchus mykiss) within the Washington Lower Columbia Management Unit. NMFS is soliciting review and comment on the Plan from the public and all interested parties.

DATES: The comment period for the Draft Interim Regional Recovery Plan closes on June 20, 2005. NMFS will consider and address all substantive comments received during the comment period. Comments must be received no later than 5 p.m. Pacific Daylight Time on June 20, 2005. A description of previous public and scientific review, including scientific peer review, can be found in the NMFS Supplement to the Plan.

ADDRESSES: Please send written comments and materials to Patty Dornbusch, National Marine Fisheries Service, Salmon Recovery Division, 1201 N.E. Lloyd Boulevard, Suite 1100, Portland, OR 97232. Comments may be submitted by e-mail. The mailbox address for providing e-mail comments is LCRsalmonWMU.nwr@noaa.gov. Include in the subject line of the e-mail comment the following identifier: Comments on LCR Salmon Plan. Comments may also be submitted via facsimile (fax) to 503-872-2737. Persons wishing to review the Plan can obtain an electronic copy (i.e., CD-ROM) from Carol Joyce by calling 503-230-5408 or by e-mailing a request to LCRsalmonWMU.nwr@noaa.gov, with the subject line CD-ROM Request for LCR Salmon Plan. Electronic copies of the Plan are also available on-line on the NMFS Web site www.nwr.noaa.gov/1srd/.

FOR FURTHER INFORMATION CONTACT: Patty Dornbusch, (503-230-5430); or Elizabeth Gaar, (503-230-5434).

SUPPLEMENTARY INFORMATION:

Background

Recovery plans describe actions considered necessary for the conservation and recovery of species listed under the Endangered Species Act of 1973 (ESA), as amended (16 U.S.C. 1531 et seq.). The ESA requires that recovery plans incorporate (1) objective, measurable criteria which, when met, would result in a determination that the species is no longer threatened or endangered; (2) site-specific management actions necessary to achieve the plan's goals; and (3) estimates of the time required and costs to implement recovery actions. The ESA requires the development of recovery plans for listed species unless such a plan would not promote the recovery of a particular species.

NMFS' goal is to restore endangered and threatened Pacific salmon and steelhead ESUs to the point where they are again secure, self-sustaining members of their ecosystems and no longer need the protections of the ESA. NMFS believes it is critically important to base its recovery plans on the many state, regional, tribal, local, and private conservation efforts already underway throughout the region. The agency's approach to recovery planning has been to support and participate in locally led collaborative efforts involving local communities, state, tribal, and Federal entities, and other stakeholders to develop recovery plans. On December 15, 2004, the State of Washington and the Lower Columbia Fish Recovery Board (LCFRB) presented the first of these locally developed recovery plans (Plan) to NMFS.

NMFS expects the Plan to help NMFS and other Federal agencies take a more consistent approach to future section 7 consultations. For example, the Plan will provide greater biological context for the effects that a proposed action may have on listed ESUs. This context will be enhanced by adding recovery plan science to the “best available information” for section 7 consultations. Such information includes viability criteria for ESUs and their independent populations; better understanding of and information on limiting factors and threats facing the ESUs; better information on priority areas for addressing specific limiting factors; and better geographic context for where the ESUs can tolerate different levels of risk.

After review of the Plan, NMFS has added a Supplement, which describes the Plan's relationship to ESA requirements for recovery plans, addresses additional elements needed to comply with those requirements, and describes the agency's intent to use the Plan as an interim regional recovery plan for the Washington Lower Columbia Management Unit and as a major component of the full ESU plan expected to be completed in 2006. The Plan, including the Supplement, is now available for public review and comment. NMFS will consider all substantive comments and information presented during the public comment period (see DATES).

ESUs Addressed and Planning Area (Washington Lower Columbia Management Unit)

The Plan covers a substantial portion of the range of three listed ESUs: Lower Columbia River chinook (Oncorhynchus tshawytscha), listed as threatened on March 24, 1999 (64 FR 14307); Columbia River chum (Oncorhynchus keta), listed as threatened on March 25, 1999 (64 FR 14507); and Lower Columbia River steelhead (Oncorhynchus mykiss), listed as threatened on March 19, 1998 (63 FR 13347). The Plan also addresses a substantial portion of the range of the Lower Columbia River Coho (Oncorhynchus kisutch) ESU. On June 14, 2004 (69 FR 33103), NMFS proposed Lower Columbia River coho salmon for listing as threatened. Because this ESU is not currently listed, NMFS is not proposing this Plan as an interim regional recovery plan for Lower Columbia River coho salmon at this time. (Also in June 2004, NMFS published a proposed hatchery listing policy (69 FR 31354) and a proposed rule to revise the listing status of 25 currently listed Pacific salmonid ESUs (69 FR 33102). Under the proposed rules, the listing status of the three currently listed ESUs addressed by this Plan would not change. Some adjustments would be made in the way hatchery fish are considered in the listing decision. The hatchery listing policy and listing determinations are expected to be finalized in June 2005.)

The area covered by the Plan includes the Washington portion of the Columbia River estuary and the Columbia River mainstem within the range of the ESUs as well as a number of tributary watersheds (including the Chinook, Grays, Skamokawa, Elochoman, Cowlitz, Coweeman, Kalama, Lewis, Washougal, Wind, and Little White Salmon Rivers, and Mill, Abernathy, Germany, Lake, Duncan, Hardy, and Hamilton Creeks). In all, the tributaries total more than 1,700 river miles in Washington. The planning area does not include portions of these ESUs on the Oregon side of the Columbia River or the White Salmon River basin in Washington.

NMFS proposes to delineate the portion of these ESUs that occurs within Washington State and within the planning area of the Lower Columbia Fish Recovery Board as the Washington Lower Columbia Management Unit. A management unit is a portion of a listed species (ESU) that might require different management due to different threats in certain geographic areas or management by different state, tribal, or local entities.

Although final recovery plans must cover the entire range of a species or ESU, NMFS has concluded that it would be disadvantageous to the three ESUs to wait to publish a draft plan until an ESU-wide plan was available. Additionally, NMFS intends to implement the Plan to the maximum extent practicable while working with constituents in Oregon to complete a recovery plan that will cover the entire range of the ESUs. Thus NMFS proposes to use the Plan as an interim regional recovery plan for the Washington Lower Columbia Management Unit of these ESUs. NMFS expects to publish a notice of availability in 2006 for a draft interim regional recovery plan for the Oregon Lower Columbia Management Unit and for the White Salmon River in Washington State. Following public review of the plans for these portions of the ESUs, NMFS will finalize a recovery plan covering the entire range of the ESUs.

The Plan

The Plan provides a roadmap for implementation of recovery actions in the Washington Lower Columbia Management Unit. It identifies threats to the ESUs, includes actions intended to address all the manageable threats, and includes recovery goals and measurable criteria consistent with the ESA. The Plan's initial approach is to target reductions in all manageable threats. As monitoring and evaluation improve our understanding of the effectiveness of various actions and their benefits throughout the life cycle of salmon and steelhead, adjustments may be made through the adaptive management framework described in the Plan. A combination of habitat loss and degradation, hydropower facility construction and operation, harvest, hatchery production of salmon and steelhead, and ecological changes have resulted in reduced viability of the Lower Columbia River chinook and chum salmon and steelhead ESUs and their eventual listing under the ESA. The Plan identifies the following key threats to the ESUs and recovery actions to reduce them:

1. Habitat: Stream conditions in the planning area have been degraded 20 to 80 percent relative to “properly functioning” benchmarks of suitability for salmon and steelhead. Recovery actions would protect pristine habitat and restore degraded habitat (with an emphasis on restoring access to high quality habitat), revise local land use practices, and change stream flow regimes to promote salmon and steelhead recovery. (Properly functioning condition benchmarks were defined based on the NMFS “Matrix of Pathways and Indicators” see NMFS, “Making Endangered Species Act Determinations of Effect for Individual or Grouped Actions at the Watershed Scale,” August 1996.)

2. Hydropower: Habitat conditions have been fundamentally altered by the construction and operation of a complex of tributary and mainstem dams and reservoirs for power generation, navigation, and flood control. Recovery actions would restore access to blocked habitats in the Cowlitz and Lewis River systems and address other effects of these hydropower systems and of the Federal Columbia River Power System on recovery of lower river ESUs.

3. Harvest: Current fishing impact rates on wild salmon populations within the Lower Columbia ESUs addressed by the plan range from 2.5 percent or less for chum salmon to 45 percent for fall chinook. Recovery actions would assure that fishery impacts to lower Columbia naturally spawning populations are managed to contribute to recovery and would also preserve fishing opportunities focused on hatchery fish and strong naturally spawning stocks.

4. Hatcheries: Risks to listed ESUs from hatchery production include genetic effects that reduce fitness and survival, ecological effects such as competition and predation, facility effects on passage and water quality, mixed stock fishery effects, and masking the true status of naturally produced fish. Recovery actions would expand the use of hatcheries for reintroduction and supplementation to help recover natural populations and would reconfigure production-based hatchery programs to minimize impacts on natural populations.

5. Ecological Interactions: Ecological interactions include interactions with non-native species, effects of salmon decline on system productivity, and native predators of salmon. Recovery actions would avoid introduction of new species and would reduce potential adverse effects of predation and existing non-native species.

The Plan identifies substantive actions needed to achieve recovery by addressing the threats to the species. The Plan also incorporates an adaptive management framework by which Plan actions and other elements will evolve and adapt to information gained as a result of monitoring and evaluation. The Plan also anticipates that future actions will be influenced by additional analysis of costs and effectiveness of recovery actions to maximize efficiency. The next step outlined in the Plan is to obtain implementation schedules from each of the responsible entities describing when and how recovery actions will occur and how much they will cost. This step will be coordinated by a committee established by the LCFRB and is described in the adaptive management section of the Plan. Implementation schedules are expected to be complete by the summer of 2005 and will be incorporated into the Plan.

Public Comments Solicited

NMFS solicits written comments on the draft Plan, including the Supplement. The Supplement states NMFS' assessment of the Plan's relationship to ESA requirements for recovery plans, specifies recovery (de-listing) criteria for the three ESUs, and explains the agency's intent to use the plan as an interim regional recovery plan and as the basis for a full ESU recovery plan. All substantive comments received by the date specified above will be considered prior to NMFS' decision whether to endorse the Plan as an interim regional recovery plan. Additionally, NMFS will provide a summary of the comments and responses through its regional web site and provide a news release for the public announcing the availability of the response to comments. NMFS seeks comments particularly in the following areas: (1) the analysis of limiting factors and threats; (2) the recovery scenario, including strategies and measures; (3) the criteria for removing the ESUs from the Federal list of endangered and threatened wildlife and plants; (4) meeting the ESA requirement for estimates of time and cost to implement recovery actions by soliciting implementation schedules (see discussion in the Supplement); and (5) the process of developing ESU-wide recovery plans using management unit plans.

Authority

The authority for this action is section 4(f) of the Endangered Species Act (16 U.S.C. 1531 et seq.).

Dated: April 14, 2005.
Laurie K. Allen,
Director, Office of Protected Resources, National Marine Fisheries Service.

[FR Doc. 05-7945 Filed 4-19-05; 8:45 am]

BILLING CODE 3510-22-S